DEPARTMENT OF THE INTERIOR

National Park Service

30-Day Notice of Intention To Request Clearance of Collection of Information; Opportunity for Public Comment

AGENCY: National Park Service, Department of the Interior.

ACTION: Notice and request for comments.

SUMMARY: Under the provisions of the Paperwork Reduction Act of 1995 (Pub. L. 104-13, 44 U.S.C., Chapter 3507), and 5 CFR Part 1320, Report and Recordkeeping Requirements, the National Park Service invites public comments on a submitted request for the Office of Managment and Budget (OMB) to approve a revision of a currently approved collection. (OMB #1024-0009).

The Primary Purpose of the Information Collection Request is to request approval for Federal tax incentives for historic preservation contained in Section 47 of the Internal Revenue Code. Section 47 of the Code requires that the Secretary of the Interior certify to the Secretary of the Treasury upon application by owners of historic properties for Federal tax benefits, (a) the historic character of the property, and (b) that the rehabilitation work is consistent with that historic character. The NPS administers the program in partnership with the Internal Revenue Service. The Historic Preservation Certification Application is used by the NPS to evaluate the condition and historic significance of buildings undergoing rehabilitation for continued use, and to evaluate whether the rehabilitation work meets the Secretary of the Interior's “Standards for Rehabilitation.”

DATES: Public comments will be accepted on or before August 28, 2006.

ADDRESSES: You may submit comments directly to the Desk Officer for the Department of the Interior, (OMB #1024-0009), Office of Information and Regulatory Affairs, OMB, by fax at 202/395-6566, or by electronic mail at oira_docket@omb.eop.gov. Please also mail or hand carry a copy of your comments to: Sharon C. Park, Heritage Preservation Services, National Park Service, 1849 C St., NW., Org. code 2255, Washington, DC 20240-0001. All comments will be a matter of public record.

SUPPLEMENTARY INFORMATION: Title: Historic Preservation Certification Application.

Form: NPS 10-168, 10-168a, 10-168b, 10-168c.

OMB Control Number: 1024-0009.

Type of Request: Revision of a currently approved collection.

Expiration Date: 7/31/2006.

Description of Need: Section 47 of the Internal Revenue Code provides a 20% Federal income tax credit for the rehabilitation of historic buildings and an income tax deduction for the donation of easements on historic properties. The Historic Preservation Certification Application provides documentation to enable the Secretary of the Interior determine whether historic buildings qualify for these Federal tax incentives. Comments are invited on: (1) The need for information including whether the information has practical utility; (2) the accuracy of the reporting burden estimate; (3) ways to enhance the quality, utility, and clarity of the information to be collected; and, (4) ways to minimize the burden of the information collection on respondents respond, including the use of appropriate automated electronic, mechanical, or other forms of information technology, and (5) the appropriateness of the filing fee. In addition to the hour burden, there is a filing fee for applications describing rehabilitation projects over $20,000. The fee is based on the size of the rehabilitation, according to a fee schedule published in 36 CFR 67.11, as follows:

Fee | Size of rehabilitation
$500 | $20,001 to $99,999.
$800 | $100,000 to $499,999.
$1,500 | $500,000 to $999,999.
$2,500 | $1,000,000 or more.

Description of respondents: The respondents are owners of historic buildings, or qualified long-term lessees. The number of respondents is estimated to be 4000 per year. The frequency of response is on occasion, as requested by owners of buildings (one response per respondent). Application for Federal historic preservation tax incentives is voluntary.

Estimated annual reporting burden: 80,000 hours for an estimated 4,000 applications total, broken down as follows: Part 1 application: Approximately 14.1 hours per Part 1 × 1834 applications = 25,859 hours; Part 2 application: Approximately 36.6 hours per application × 1224 applications = 44,798 hours; Part 3 application: approximately 8.9 hours per application × 861 applications = 7,663. This totals 78,320, based on a total of 3919 Part 1s, Part 2s, and Part 3s, or 20 hours average for each. At approximately 4000 applications per year (project agency totals for coming years), the estimated total burden is 80,000.

Estimated average burden hours per response: Depending on which form is used, the average burden hours per response can vary considerably because of the wide range of activities described in each application. In general, the average burden hours range from 14 hours for a Part 1 describing a historic building to approximately 37 hours for a Part 2 application describing rehabilitation work to be undertaken.

Estimated average number of respondents: 4000.

Estimated frequency of response: the 4000 “responses” are submitted on occasion, as owners of historic buildings apply for certifications from the Secretary of the Interior.

Dated: July 10, 2006.
Leonard E. Stowe,
NPS Information Collection Clearance Officer.

[FR Doc. E6-12021 Filed 7-26-06; 8:45 am]

BILLING CODE 4310-70-P